NATIONAL AERONAUTICS AND SPACE ADMINISTRATION

2 CFR Chapter XVIII

5 CFR Chapter LIX

14 CFR Chapter V

48 CFR Chapter 18

[Notice (11-051)]

Reducing Regulatory Burden; Retrospective Review Under E.O. 13563

AGENCY: National Aeronautics and Space Administration (NASA).

ACTION: Request for comments.

SUMMARY: As part of its implementation of Executive Order 13563, Improving Regulation and Regulatory Review, issued by the President on January 18, 2011, NASA is seeking comments on the Agency's preliminary plan to conduct a retrospective analysis of its existing regulations. The purpose of this analysis is to make NASA's regulatory program more effective and less burdensome in achieving its regulatory objectives.

DATES: Comments are requested on or before July 5, 2011.

ADDRESSES: Submit comments to http://www.regulations.gov, or e-mail comments to hq-regulatory-review@mail.nasa.gov.

FOR FURTHER INFORMATION CONTACT: Nanette Jennings, 202-358-0819, hq-regulatory-review@mail.nasa.gov.

SUPPLEMENTARY INFORMATION: On January 18, 2011, the President issued Executive Order 13563, Improving Regulation and Regulatory Review, to ensure that Federal regulations seek a more affordable, less intrusive means to achieve policy goals and that agencies give careful consideration to the benefits and costs of those regulations. The Order further directs agencies to develop a preliminary plan, consistent with law and its resources and regulatory priorities, under which the agency will periodically review its existing significant regulations to determine whether any such regulations should be modified, streamlined, expanded, or repealed so as to make the agency's regulatory program more effective or less burdensome in achieving the regulatory objectives. The Order can be accessed at http://www.whitehouse.gov/sites/default/files/omb/inforeg/eo12866/eo13563_01182011.pdf.

To implement the Order, NASA developed its preliminary plan and issues this request seeking public comment on how best to review its existing regulations. NASA's plan is accessible on its Open Government Web site at http://www.nasa.gov/open/. Submit electronic comments through the Federal e-Rulemaking Portal at http://www.regulations.gov, or e-mail electronic comments to hq-regulatory-review@mail.nasa.gov. Include “Regulatory Review” in the subject line of the e-mail.

Richard Keegan,
Associate Deputy Administrator.

[FR Doc. 2011-13678 Filed 6-1-11; 8:45 am]

BILLING CODE P